DEPARTMENT OF THE INTERIOR

National Park Service

National Register of Historic Places; Notification of Pending Nominations and Related Actions

Nominations for the following properties being considered for listing or related actions in the National Register were received by the National Park Service before July 1, 2006. Pursuant to § 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington DC 20005; or by fax, 202-371-6447. Written or faxed comments should be submitted by July 29, 2006.

John W. Roberts,
Acting Chief, National Register/National Historic Landmarks Program.

ILLINOIS

Cook County

Eugene Field Park, (Chicago Park District MPS) 5100 N. Ridgeway Ave., Chicago, 06000677

First Congregational Church of Western Springs, 1106 Chestnut St., Western Springs, 06000673

Grand Crossing Park, (Chicago Park District MPS) 7655 S. Ingleside Ave., Chicago, 06000678

Jefferson Park, (Chicago Park District MPS) 4822 N. Long Ave., Chicago, 06000679

Lake County

Deerpath Hill Estates Historic District, (Deerpath Hill Estates: an English Garden Development in Lake Forest, Illinois MPS) Roughly bounded by Northcliffe Way, King Muir Rd. and Waukegan Rd., Lake Forest, 06000676

Lee County

Lowell Park, (Dixon Parks MPS) 2114 Lowell Park Rd., Dixon, 06000680

Pike County

Church of Christ, 102 Main St., Perry, 06000675

Winnebago County

Barber—Colman Company Historic District, 100 Loomis, 1202-1322 (even) Rock St., Rockford, 06000674

IOWA

Dubuque County

Security Building, (Dubuque, Iowa MPS) 800 Main St., Dubuque, 06000681

LOUISIANA

East Baton Rouge Parish

Knox Building, 447 Third St., Baton Rouge, 06000684

Welsh—Levy Building, 455-65 Third St., Baton Rouge, 06000685

MISSOURI

Jasper County

Gentry Apartments, 318 S. Wall St., Joplin, 06000683

Ridgway Apartments, 402 S. Byers Ave. and 404 S. Byers Ave., Joplin, 06000682

NEW JERSEY

Cape May County

Corson, John, Jr., House, 1542 S. Shore Rd., Upper Township, 06000686

Hudson County

Bayonne Trust Company, 229-231 Broadway, Bayonne, 06000693

NORTH CAROLINA

Alamance County

Morrow, William P., House, NC 2146, 0.1 mi. W of jct. with NC 2145 (3017 Saxapahaw-Bethlehem Church Rd.), Graham, 06000687

Buncombe County

West Asheville End of Car Line Historic District, Both sides of Haywood Rd. from 715 to 814 and 7-9 Brevard Rd., Asheville, 06000691

Craven County

DeGraffenried Park Historic District, Roughly bounded by Neuse Blvd., Fort Totten Dr., Trent Rd. and Chattawka Ln., New Bern, 06000689

Davidson County

Salem Street Historic District, 108-301 Salem St., 6-12 Forsyth St., and 6 Leonard St., Thomasville, 06000688

Hoke County

Raeford Historic District, Roughly bounded by Jackson St., E. Central Ave., the Aberdeen and Rockfish, and E and W Elwood Ave., Raeford, 06000690

Johnston County

Four Oaks Commercial Historic District, 100-300 blks N. Main, 100-200 blks S. Main, 100 blk S.W. Railroad, 100 blk W Wellons St. & 100 blk W. Woodall St., Four Oaks, 06000692

OHIO

Monroe County

First United Methodist Church, 136 N. Main St., Woodsfield, 06000694

Montgomery County

Kenilworth Avenue Historic District, 1131-1203 Salem Ave., 701-761 Kenilworth, Dayton, 06000695

Preble County

West Alexandria Depot, 71 E. Dayton St., West Alexandria, 06000696

SOUTH CAROLINA

Beaufort County

Charleston Navy Yard Historic District, Portions of Ave A,B,D, 2nd, 4th, Hayter, N. Hobson Sts., McMillan Ave., Machinists, Pierside, Pipefitters Sts., etc., North Charleston, 06000699

TENNESSEE

Giles County

Bridgeforth High School, 1095 Bledsoe Rd., Pulaski, 06000697

Original Church of God, (Rural African-American Churches in Tennessee MPS) 115 Gordon St., Pulaski, 06000698

VERMONT

Caledonia County

Toll House, 2028 Mountain Rd., Burke, 06000704

Washington County

Bridge 31, (Metal Truss, Masonry, and Concrete Bridges in Vermont MPS) Winooski St., Waterbury, 06000703

WASHINGTON

Snohomish County

North Cost Casket Company Building, 1210 W. Marine View Dr., Everett, 06000700

Spokane County

Tuell, Frank and Maude, House, 416 W. 22nd Ave., Spokane, 06000702

Whitman County

College Hill Historic District, Roughly bounded by Stadium Way, B St., Howard St., and Indiana St., Pullman, 06000701

[FR Doc. E6-11124 Filed 7-13-06; 8:45 am]

BILLING CODE 4312-51-P